DEPARTMENT OF HOMELAND SECURITY

Federal Emergency Management Agency

[Docket ID FEMA-2016-0002; Internal Agency Docket No. FEMA-B-1635]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 2, 2016.
Roy E. Wright,
Deputy Associate Administrator for Insurance and Mitigation, Department of Homeland Security, Federal Emergency Management Agency.

State and county | Location and case No. | Chief executive officer of community | Community map repository | Online location of letter of map revision | Effective date of modification | Community No.
Alabama: Shelby | City of Alabaster (16-04-2252P) | The Honorable Marty Handlon, Mayor, City of Alabaster, 1953 Municipal Way, Alabaster, AL 35007 | Building Safety Department, 200 Depot Street, Alabaster, AL 35007 | http://www.msc.fema.gov/lomc | Sep. 8, 2016 | 010192
Arkansas:
Washington | City of Johnson (15-06-2898P) | The Honorable Chris Keeney, Mayor, City of Johnson, P.O. Box 563, Johnson, AR 72704 | City Hall, 2904 Main Drive, Johnson, AR 72704 | http://www.msc.fema.gov/lomc | Sep. 8, 2016 | 050218
Washington | City of Springdale (15-06-2898P) | The Honorable Doug Sprouse, Mayor, City of Springdale, 201 Spring Street, Springdale, AR 72764 | Planning and Community Development Department, 201 Spring Street, Springdale, AR 72764 | http://www.msc.fema.gov/lomc | Sep. 8, 2016 | 050219
Connecticut: Fairfield | Town of Stratford (15-01-1945P) | The Honorable John A. Harkins, Mayor, Town of Stratford, 2725 Main Street, Stratford, CT 06615 | Engineering Department, 2725 Main Street, Stratford, CT 06615 | http://www.msc.fema.gov/lomc | Aug. 5, 2016 | 090016
Florida:
Broward | City of Hollywood (15-04-6825P) | The Honorable Peter J. M. Bober, Mayor, City of Hollywood, 2600 Hollywood Boulevard, Suite 403, Hollywood, FL 33020 | Planning Division, 2600 Hollywood Boulevard, Suite 304, Hollywood, FL 33020 | http://www.msc.fema.gov/lomc | Sep. 7, 2016 | 125113
Hillsborough | City of Tampa (16-04-2659P) | The Honorable Bob Buckhorn, Mayor, City of Tampa, 306 East Jackson Street, Tampa, FL 33602 | Development Services Center, 1400 North Boulevard, Tampa, FL 33607 | http://www.msc.fema.gov/lomc | Aug. 23, 2016 | 120114
Lee | Unincorporated areas of Lee County (15-04-9900P) | The Honorable Frank Mann, Chairman, Lee County Board of Commissioners, P.O. Box 398, Fort Myers, FL 33902 | Lee County Building Department, 1500 Monroe Street, Fort Myers, FL 33901 | http://www.msc.fema.gov/lomc | Sep. 7, 2016 | 125124
Lee | Unincorporated areas of Lee County (16-04-2127P) | The Honorable Frank Mann, Chairman, Lee County Board of Commissioners, P.O. Box 398, Fort Myers, FL 33902 | Lee County Building Department, 1500 Monroe Street, Fort Myers, FL 33901 | http://www.msc.fema.gov/lomc | Sep. 5, 2016 | 125124
Lee | Unincorporated areas of Lee County (16-04-2912P) | The Honorable Frank Mann, Chairman, Lee County Board of Commissioners, P.O. Box 398, Fort Myers, FL 33902 | Lee County Building Department, 1500 Monroe Street, Fort Myers, FL 33901 | http://www.msc.fema.gov/lomc | Sep. 6, 2016 | 125124
Miami-Dade | Village of Miami Shores Village (15-04-5104P) | The Honorable Alice Burch, Mayor, Village of Miami Shores Village, 10050 Northeast 2nd Avenue, Miami Shores Village, FL 33138 | Planning and Zoning Department, 10050 Northeast 2nd Avenue, Miami Shores Village, FL 33138 | http://www.msc.fema.gov/lomc | Sep. 9, 2016 | 120652
Monroe | City of Key West (16-04-3139P) | The Honorable Craig Cates, Mayor, City of Key West, P.O. Box 1409, Key West, FL 33041 | Building Department, 3140 Flagler Avenue, Key West, FL 33040 | http://www.msc.fema.gov/lomc | Sep. 9, 2016 | 125129
Monroe | Unincorporated areas of Monroe County (16-04-3138P) | The Honorable Heather Carruthers, Mayor, Monroe County Board of Commissioners, 500 Whitehead Street, Suite 102, Key West, FL 33040 | Monroe County Building Department, 2798 Overseas Highway, Suite 300, Key West, FL 33050 | http://www.msc.fema.gov/lomc | Aug. 25, 2016 | 125129
Monroe | Unincorporated areas of Monroe County (16-04-3255P) | The Honorable Heather Carruthers, Mayor, Monroe County Board of Commissioners, 500 Whitehead Street, Suite 102, Key West, FL 33040 | Monroe County Building Department, 2798 Overseas Highway, Suite 300, Key West, FL 33050 | http://www.msc.fema.gov/lomc | Sep. 1, 2016 | 125129
St. Johns | Unincorporated areas of St. Johns County (15-04-4235P) | The Honorable Jeb Smith, Chairman, St. Johns County Board of Commissioners, 500 San Sebastian View, St. Augustine, FL 32084 | St. Johns County Administration Building, 4020 Lewis Speedway, St. Augustine, FL 32084 | http://www.msc.fema.gov/lomc | Sep. 5, 2016 | 125147
Georgia: Grady | Unincorporated areas of Grady County (16-04-0690P) | The Honorable Charlie Norton, Chairman, Grady County Board of Commissioners, 250 North Broad Street, Cairo, GA 39828 | Grady County Code Enforcement Division, 250 North Broad Street, Cairo, GA 39828 | http://www.msc.fema.gov/lomc | Aug. 18, 2016 | 130096
Maryland: Frederick | City of Frederick (16-03-0095P) | The Honorable Randy McClement, Mayor, City of Frederick, 101 North Court Street, Frederick, MD 21701 | Engineering Department, 140 West Patrick Street, Frederick, MD 21701 | http://www.msc.fema.gov/lomc | Aug. 31, 2016 | 240030
Mississippi:
Rankin | City of Flowood (16-04-1696P) | The Honorable Gary Rhoads, Mayor, City of Flowood, P.O. Box 320069, Flowood, MS 39232 | Engineering Department, 109 Woodline Drive, Flowood, MS 39232 | http://www.msc.fema.gov/lomc | Aug. 18, 2016 | 280289
Rankin | City of Jackson (16-04-1696P) | The Honorable Tony Yarber, Mayor, City of Jackson, P.O. Box 17, Jackson, MS 39205 | Public Works Department, 200 South President Street, Jackson, MS 39205 | http://www.msc.fema.gov/lomc | Aug. 18, 2016 | 280072
Montana: Stillwater | Unincorporated areas of Stillwater County (15-08-0567P) | The Honorable Dennis Shupak, Chairman, Stillwater County Board of Commissioners, 400 East 3rd Avenue North, Columbus, MT 59019 | Floodplain Administrator's Office, 431 Quarry Road, Columbus, MT 59019 | http://www.msc.fema.gov/lomc | Sep. 9, 2016 | 300078
North Dakota:
Dunn | City of Killdeer (16-08-0302X) | The Honorable Chuck Muscha, President, City of Killdeer Council, P.O. Box 270, Killdeer, ND 58640 | Planning and Zoning Department, 165 Railroad Street, Killdeer, ND 58640 | http://www.msc.fema.gov/lomc | Jul. 18, 2016 | 380030
Dunn | Unincorporated areas of Dunn County (16-08-0302X) | The Honorable Reinhard Hauck, Chairman, Dunn County Board of Commissioners, 205 Owens Street, Manning, ND 58642 | Dunn County Planning and Zoning Department, 205 Owens Street, Manning, ND 58642 | http://www.msc.fema.gov/lomc | Jul. 18, 2016 | 380026
Oklahoma: Oklahoma | City of Edmond (15-06-2036P) | The Honorable Charles Lamb, Mayor, City of Edmond, P.O. Box 2970, Edmond, OK 73083 | Engineering/Drainage Utility Department, 10 South Littler Avenue, Edmond, OK 73084 | http://www.msc.fema.gov/lomc | Sep. 8, 2016 | 400252
Rhode Island:
Washington | Town of Charlestown (15-01-2168P) | The Honorable Thomas B. Gentz, President, Town of Charlestown Council, 4540 South County Trail, Charlestown, RI 02813 | Building Officials Office, 4540 South County Trail, Charlestown, RI 02813 | http://www.msc.fema.gov/lomc | Aug. 26, 2016 | 445395
Washington | Town of Richmond (15-01-2168P) | The Honorable Henry Oppenheimer, President, Town of Richmond Council, 5 Richmond Townhouse Road, Wyoming, RI 02898 | Town Hall, 5 Richmond Townhouse Road, Wyoming, RI 02898 | http://www.msc.fema.gov/lomc | Aug. 26, 2016 | 440031
South Dakota: Lawrence | City of Spearfish (16-08-0178P) | The Honorable Dana Boke, Mayor, City of Spearfish, 625 5th Street, Spearfish, SD 57783 | City Hall, 625 5th Street, Spearfish, SD 57783 | http://www.msc.fema.gov/lomc | Sep. 5, 2016 | 460046
Tennessee: Blount | City of Maryville (16-04-1499P) | The Honorable Tom Taylor, Mayor, City of Maryville, 404 West Broadway Avenue, Maryville, TN 37801 | Engineering and Public Works Department, 416 West Broadway Avenue, Maryville, TN 37801 | http://www.msc.fema.gov/lomc | Aug. 24, 2016 | 475439
Texas:
Comal | Unincorporated areas of Comal County (15-06-4497P) | The Honorable Sherman Krause, Comal County Judge, 150 North Seguin Avenue, New Braunfels, TX 78130 | Comal County Engineering Department, 195 David Jonas Drive, New Braunfels, TX 78132 | http://www.msc.fema.gov/lomc | Aug. 25, 2016 | 485463
Comal | Unincorporated areas of Comal County (16-06-0368P) | The Honorable Sherman Krause, Comal County Judge, 150 North Seguin Avenue, New Braunfels, TX 78130 | Comal County Engineering Department, 195 David Jonas Drive, New Braunfels, TX 78132 | http://www.msc.fema.gov/lomc | Aug. 24, 2016 | 485463
Dallas | City of Grand Prairie (16-06-1120P) | The Honorable Ron Jensen, Mayor, City of Grand Prairie, P.O. Box 534045, Grand Prairie, TX 75053 | City Development Center, 206 West Church, Grand Prairie, TX 75050 | http://www.msc.fema.gov/lomc | Aug. 22, 2016 | 485472
Fort Bend | City of Rosenberg (14-06-4590P) | The Honorable Cynthia A. McConathy, Mayor, City of Rosenberg, 2110 4th Street, Rosenberg, TX 77471 | City Hall, 2220 4th Street, Rosenberg, TX 77471 | http://www.msc.fema.gov/lomc | Aug. 25, 2016 | 480232
Harris | City of Houston (16-06-1652P) | The Honorable Sylvester Turner, Mayor, City of Houston, P.O. Box 1562, Houston, TX 77251 | Floodplain Management Office, 1002 Washington Avenue, 3rd Floor, Houston, TX 77002 | http://www.msc.fema.gov/lomc | Aug. 26, 2016 | 480296
Hood | City of Granbury (15-06-0390P) | The Honorable Nin Hulett, Mayor, City of Granbury, 116 West Bridge Street, Granbury, TX 76048 | City Hall, 116 West Bridge Street, Granbury, TX 76048 | http://www.msc.fema.gov/lomc | Aug. 18, 2016 | 480357
Hood | Unincorporated areas of Hood County (15-06-0390P) | The Honorable Darrell Cockerham, Hood County Judge, 100 East Pearl Street, Granbury, TX 76048 | Hood County Environmental Health Department, 201 West Bridge Street, Granbury, TX 76048 | http://www.msc.fema.gov/lomc | Aug. 18, 2016 | 480356
Tarrant | Unincorporated areas of Tarrant County (15-06-4328P) | The Honorable B. Glen Whitley, Tarrant County Judge, 100 East Weatherford Street, Suite 501, Fort Worth, TX 76196 | Tarrant County Transportation Services Department, 100 East Weatherford Street, Suite 401, Fort Worth, TX 76196 | http://www.msc.fema.gov/lomc | Sep. 8, 2016 | 480582
Travis | Unincorporated areas of Travis County (15-06-4241P) | The Honorable Sarah Eckhardt, Travis County Judge, P.O. Box 1748, Austin, TX 78767 | Travis County Engineering Department, 700 Lavaca Street, 5th Floor, Austin, TX 78701 | http://www.msc.fema.gov/lomc | Sep. 5, 2016 | 481026
Webb | City of Laredo (14-06-3761P) | The Honorable Pete Saenz, Mayor, City of Laredo, P.O. Box 579, Laredo, TX 78042 | Planning and Zoning Department, 1120 San Bernardo Avenue, Laredo, TX 78040 | http://www.msc.fema.gov/lomc | Sep. 6, 2016 | 480651
Utah:
Cache | City of Hyrum (16-08-0057P) | The Honorable Stephanie Miller, Mayor, City of Hyrum, 60 West Main Street, Hyrum, UT 84319 | City Hall, 60 West Main Street, Hyrum, UT 84319 | http://www.msc.fema.gov/lomc | Sep. 7, 2016 | 490017
Salt Lake | City of Draper (15-08-1373P) | The Honorable Troy K. Walker, Mayor, City of Draper, 1020 East Pioneer Road, Draper, UT 84020 | City Hall, 1020 East Pioneer Road, Draper, UT 84020 | http://www.msc.fema.gov/lomc | Sep. 7, 2016 | 490244
Virginia:
Loudoun | Unincorporated areas of Loudoun County (15-03-2804P) | The Honorable Phyllis J. Randall, Chair, Loudoun County Board of Supervisors, P.O. Box 7000, Leesburg, VA 20177 | Loudoun County Department of Building and Development, 1 Harrison Street Southeast, Leesburg, VA 20175 | http://www.msc.fema.gov/lomc | Aug. 25, 2016 | 510090
Loudoun | Unincorporated areas of Loudoun County (16-03-0299P) | The Honorable Phyllis J. Randall, Chair, Loudoun County Board of Supervisors, P.O. Box 7000, Leesburg, VA 20177 | Loudoun County Department of Building and Development, 1 Harrison Street Southeast, Leesburg, VA 20175 | http://www.msc.fema.gov/lomc | Sep. 9, 2016 | 510090

[FR Doc. 2016-19293 Filed 8-12-16; 8:45 am]

BILLING CODE 9110-12-P